DEPARTMENT OF TRANSPORTATION

Federal Aviation Administration

14 CFR Part 39

[Docket No. FAA-2017-0048; Directorate Identifier 2016-CE-035-AD]

RIN 2120-AA64

Airworthiness Directives; Slingsby Aviation Ltd. Airplanes

AGENCY: Federal Aviation Administration (FAA), Department of Transportation (DOT).

ACTION: Notice of proposed rulemaking (NPRM).

SUMMARY: We propose to adopt a new airworthiness directive (AD) for Slingsby Aviation Ltd. Models T67M260 and T67M260-T3A airplanes that would supersede AD 2015-11-01. This proposed AD results from mandatory continuing airworthiness information (MCAI) originated by an aviation authority of another country to identify and correct an unsafe condition on an aviation product. The MCAI describes the unsafe condition as failure of a brake master cylinder pivot pin, which could cause the rudder pedal mechanism to detach from the brake cylinder. We are issuing this proposed AD to require actions to address the unsafe condition on these products.

DATES: We must receive comments on this proposed AD by March 24, 2017.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact Marshall Aerospace and Defence Group, The Airport, Newmarket Road, Cambridge, CB5 8RX, UK; telephone: +44 (0) 1223 399856; fax: +44 (0) 7825365617; email: mark.bright@marshalladg.com; Internet: www.marshalladg.com. You may review copies of the referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2017-0048; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Jim Rutherford, Aerospace Engineer, FAA, Small Airplane Directorate, 901 Locust, Room 301, Kansas City, Missouri 64106; telephone: (816) 329-4165; fax: (816) 329-4090; email: jim.rutherford@faa.gov.

SUPPLEMENTARY INFORMATION:

Comments Invited

We invite you to send any written relevant data, views, or arguments about this proposed AD. Send your comments to an address listed under the ADDRESSES section. Include “Docket No. FAA-2017-0048; Directorate Identifier 2016-CE-035-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

On May 18, 2015, we issued AD 2015-11-01, Amendment 39-18164 (80 FR 30136; May 27, 2015). That AD required actions intended to address an unsafe condition on Slingsby Aviation Ltd. Models T67M260 and T67M260-T3A airplanes and was based on mandatory continuing airworthiness information (MCAI) originated by an aviation authority of another country.

Since we issued AD 2015-11-01, new service information was issued to revise the inspection instructions and to add a new initial inspection period after replacement of the brake master cylinder pivot pins.

The European Aviation Safety Agency (EASA), which is the Technical Agent for the Member States of the European Community, has issued EASA AD 2016-0214, dated October 27, 2016 (referred to after this as “the MCAI”), to correct an unsafe condition for the specified products. The MCAI states:

An occurrence was reported where pivot pin Part Number (P/N) T67M-45-539, of rudder pedal assembly #4, installed on the right hand (RH) side of the aeroplane (RH seat, RH pedal) failed during taxi. This caused the rudder pedal mechanism to detach from the brake master cylinder.

This condition, if not detected and corrected, could cause the rudder linkages to rotate out of their normal orientation, possibly resulting in jammed rudder controls and consequent loss of control of the aeroplane.

To address this potential unsafe condition, Slingsby Advanced Composites Ltd, trading as Marshall Aerospace and Defence Group (hereafter called “Marshall” in this AD) issued Service Bulletin (SB) SBM 200 to provide inspection instructions.

Consequently, EASA issued Emergency AD 2015-0065-E to require repetitive inspections of the brake cylinder pivot pins of rudder pedal assemblies #1 and #4 and, depending on findings, replacement of the affected pivot pin(s).

Since that AD was issued, Marshall published SBM 200 Revision 2 to revise the inspection instructions and to introduce a new initial inspection period after replacement of brake master cylinder pivot pins on an aeroplane.

For the reason described above, this AD retains the requirements of EASA AD 2015-065-E, which is superseded, but requires the use of the revised inspection instructions. This AD also allows deferring the next due inspection after replacement of the pins.

You may examine the MCAI on the Internet at http://www.regulations.gov by searching for and locating Docket No. FAA-2017-0048.

Related Service Information Under 1 CFR Part 51

Slingsby Aviation Ltd. trading as Marshall Aerospace and Defence Group has issued Marshall Aerospace and Defence Group Service Bulletin SBM 200, Revision 2, dated December 2015. The service bulletin describes procedures for inspection of the brake master cylinder pivot pin. This service information is reasonably available because the interested parties have access to it through their normal course of business or by the means identified in the ADDRESSES section of this NPRM.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Costs of Compliance

We estimate that this proposed AD will affect 3 products of U.S. registry. We also estimate that it would take about 6 work-hours per product to comply with the basic requirements of this proposed AD. The average labor rate is $85 per work-hour. Required parts would cost about $50 per product.

Based on these figures, we estimate the cost of the proposed AD on U.S. operators to be $1,680, or $560 per product.

In addition, we estimate that any necessary follow-on actions would take about .5 work-hour and require parts costing $100, for a cost of $142.50 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-18164 (80 FR 30136; May 27, 2015), and adding the following new AD:

Slingsby Aviation Ltd.: Docket No. FAA-2017-0048; Directorate Identifier 2016-CE-035-AD.

(a) Comments Due Date

We must receive comments by March 24, 2017.

(b) Affected ADs

This AD replaces AD 2015-11-01; Amendment 39-18164 (80 FR 30136; May 27, 2015) (“AD 2015-11-01”).

(c) Applicability

This AD applies to Slingsby Aviation Ltd. Models T67M260 and T67M260-T3A airplanes, all serial numbers, certificated in any category.

(d) Subject

Air Transport Association of America (ATA) Code 27: Flight Controls.

(e) Reason

This AD was prompted by mandatory continuing airworthiness information (MCAI) originated by an aviation authority of another country to identify and correct an unsafe condition on an aviation product. The MCAI describes the unsafe condition as failure of a brake master cylinder pivot pin, which could cause the rudder pedal mechanism to detach from the brake cylinder. We are issuing this proposed AD to detect and correct discrepancies of the brake master cylinder pivot pin, which could lead to detachment of the rudder pedal mechanism from the brake master cylinder with consequent loss of control.

(f) Actions and Compliance

Unless already done, do the following actions in paragraphs (f)(1) through (3) of this AD:

(1) Within 300 hours time-in-service (TIS) after the effective date of this AD or within 300 hours TIS after the last inspection required by AD 2015-11-01, whichever occurs first, and repetitively thereafter at intervals not to exceed 300 hours TIS or 12 months, whichever occurs first, inspect the brake master cylinder pivot pins part number (P/N) T67M-45-539 installed on rudder pedal assemblies number 1 and number 4. Do this action following paragraph C. INSPECTION of the Accomplishment Instructions in Marshall Aerospace and Defense Group Service Bulletin SBM 200, Revision 2, dated December 2015 (SBM 200, Revision 2).

(2) If any cracking or distortion of the brake master cylinder pivot pins is found or the pivot pin fails the dimensional check during any of the inspections required in paragraph (f)(1) of this AD, before further flight, replace the affected pivot pin with a serviceable part following paragraph C. INSPECTION of the Accomplishment Instructions in SBM 200, Revision 2.

(3) Replacement of the brake master cylinder pivot pins as required by paragraph (f)(2) of this AD does not terminate the repetitive inspections required by paragraph (f)(1) of this AD. If both brake master cylinder pivot pins are replaced at the same time, the first repetitive inspection after replacement of the pivot pins can be deferred until 1,000 hours TIS after replacement of the pivot pins.

(g) Credit for Actions Accomplished in Accordance With Previous Service Information

This AD provides credit for any inspections required in paragraph (f)(1) of this AD if completed before the effective date of this AD following the Accomplishment Instructions of Marshall Aerospace and Defense Group Service Bulletin SBM 200, Revision 1, dated April 2015.

(h) Other FAA AD Provisions

The following provisions also apply to this AD:

(1) Alternative Methods of Compliance (AMOCs): The Manager, Standards Office, FAA, has the authority to approve AMOCs for this AD, if requested using the procedures found in 14 CFR 39.19. Send information to ATTN: Jim Rutherford, Aerospace Engineer, FAA, Small Airplane Directorate, 901 Locust, Room 301, Kansas City, Missouri 64106; telephone: (816) 329-4165; fax: (816) 329-4090; email:. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(i) Related Information

Refer to MCAI EASA AD 2016-0214, dated October 27, 2016, for related information. You may examine the MCAI on the Internet at http://www.regulations.gov by searching for and locating Docket No. FAA-2017-0048. For service information related to this AD, contact Marshall Aerospace and Defence Group, The Airport, Newmarket Road, Cambridge, CB5 8RX, UK; telephone: +44 (0) 1223 399856; fax: +44 (0) 7825365617; email: mark.bright@marshalladg.com; Internet: www.marshalladg.com. You may review copies of the referenced service information at the FAA, Small Airplane Directorate, 901 Locust, Kansas City, Missouri 64106. For information on the availability of this material at the FAA, call (816) 329-4148.

Issued in Kansas City, Missouri, on January 18, 2017.
Melvin Johnson,
Acting Manager, Small Airplane Directorate, Aircraft Certification Service.

[FR Doc. 2017-01768 Filed 2-6-17; 8:45 am]

BILLING CODE 4910-13-P